OFFICE OF PERSONNEL MANAGEMENT

Submission for OMB Emergency Review: OPM Form SF 15, Application for 10-Point Veteran Preference, OMB No. 3206-0001

AGENCY: U.S. Office of Personnel Management

ACTION: Emergency clearance notice and request for comments.

SUMMARY: In accordance with the Paperwork Reduction Act of 1995 (Pub. L. 104-13, May 22, 1995), this notice announces the Office of Personnel Management (OPM) submitted a request to the Office of Management and Budget (OMB) for emergency clearance and review for OPM Form SF 15, Application for 10-Point Veteran Preference. Emergency clearance is required as the current form approval expired October 31, 2016. OPM will publish a 60-notice requesting comments on proposed revisions to the SF 15 at a later date.

The SF 15 is used by agencies, OPM examining offices, and agency appointing officials to adjudicate individuals' claims for veterans' preference in accordance with the Veterans' Preference Act of 1944.

Public burden reporting for this collection of information is estimated to take approximately 10 minutes per response, including time for reviewing instructions, searching existing data sources, gathering and maintaining the data needed, and completing and reviewing the collection of information.

Comments are invited on:

• Whether this information is necessary for the proper performance of functions on the Office of Personnel Management, and whether it will have practical utility;

• whether our estimate of the public burden of this collection of information is accurate, and based on valid assumptions and methodology; and

• ways in which we can minimize the burden of the collection of information on those who are to respond, through the use of appropriate technological collection techniques or other forms of information technology.

For copies of this proposal, contact CIO PRA Officer on (202) 606-0125 or via email to formsmanager@opm.gov. Please include your complete mailing address with your request.

DATES: Comments on this proposal for emergency review should be received within December 15, 2016. We are requesting OMB to take action within 10 calendar days from the close of this Federal Register Notice on the request for emergency review.

ADDRESSES: You may send or deliver comments to: Kimberly A. Holden, Deputy Associate Director for Recruitment and Hiring, Employee Services, U.S. Office of Personnel Management, Room 6351D, 1900 E Street NW., Washington, DC 20415-9700, or email at employ@opm.gov; or fax at (202) 606-2329 and OMB Designee,OPM Desk Officer, Office of Management and Budget, Office of Information and Regulatory Affairs, New Executive Office Building NW., Room 10235, Washington, DC 20503.

FOR FURTHER INFORMATION CONTACT: Roseanna Ciarlante by telephone at (267) 932-8640; by fax at (202) 606-4430; by TTY at (202) 418-3134; or by email at Roseanna.Ciarlante@opm.gov.

U.S. Office of Personnel Management.
Beth F. Cobert,
Acting Director.

[FR Doc. 2016-29127 Filed 12-2-16; 8:45 am]

BILLING CODE 6325-39-P